DEPARTMENT OF ENERGY

10 CFR Part 430

[EERE-2013-BT-TP-0050]

RIN 1904-AD88

Energy Conservation Program: Test Procedure for Ceiling Fans; Correction

AGENCY: Office of Energy Efficiency and Renewable Energy, Department of Energy.

ACTION: Final rule; correction.

SUMMARY: The U.S. Department of Energy (“DOE”) is correcting a final rule that appeared in the Federal Register on August 16, 2022. The document amended test procedures for ceiling fans. This document corrects an amendatory error in that final rule.

DATES: Effective September 15, 2022.

FOR FURTHER INFORMATION CONTACT:

Mr. Jeremy Dommu, U.S. Department of Energy, Office of Energy Efficiency and Renewable Energy, Building Technologies Office, EE-2J, 1000 Independence Avenue SW, Washington, DC 20585-0121. Telephone: (202) 586-9870. Email: ApplianceStandardsQuestions@ee.doe.gov.

Ms. Amelia Whiting, U.S. Department of Energy, Office of the General Counsel, GC-33, 1000 Independence Avenue SW, Washington, DC 20585-0121. Telephone: (202) 586-2588. Email: amelia.whiting@hq.doe.gov.

SUPPLEMENTARY INFORMATION:

I. Background

DOE published a final rule in the Federal Register on August 16, 2022, amending the test procedure for ceiling fans. 87 FR 50396. This correction addresses a numbering error in that final rule. The instruction amending 10 CFR 430.3(p) states that DOE is “Adding note 1 to paragraph (p).” However, in the amended regulatory text, the added note is written as “Note 2 to paragraph (p).” Id. at 50424. This document corrects the regulatory language to read “Note 1 to paragraph (p).”

In final rule FR Doc. 2022-16951, published in the issue of Tuesday, August 16, 2022 (87 FR 50396), the following correction is made:

§ 430.3 [Corrected]

1. On page 50424, in the first column, in § 430.3, “Note 2 to paragraph (p)” is corrected to read “Note 1 to paragraph (p)”.

Signing Authority

This document of the Department of Energy was signed on August 19, 2022, by Dr. Geraldine Richmond, Undersecretary for Science and Innovation, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 23, 2022.
Treena V. Garrett,
Federal Register Liaison Officer, U.S. Department of Energy.

[FR Doc. 2022-18433 Filed 8-25-22; 8:45 am]

BILLING CODE 6450-01-P